DEPARTMENT OF HEALTH AND HUMAN SERVICES

National Institutes of Health

National Institute of General Medical Sciences Amended; Notice of Meeting

Notice is hereby given of a change in the meeting of the National Advisory General Medical Sciences Council, September 19, 2019, 9:00 a.m. to September 20, 2019, 12:00 p.m., National Institutes of Health, Natcher Building, 45 Center Drive, Conference Rooms E1 & E2, Bethesda, MD 20892, which was published in the Federal Register on February 14, 2019, 84 FR 4089.

The meeting notice is amended to change the date and time of the meeting from September 19-20, 2019, 9:00 a.m.-12:00 p.m. to September 19, 2019, 8:30 a.m.-5:00 p.m. The meeting is partially closed to the public.

Dated: July 25, 2019.
Melanie J. Pantoja,
Program Analyst, Office of Federal Advisory Committee Policy.

[FR Doc. 2019-16222 Filed 7-30-19; 8:45 am]

BILLING CODE 4140-01-P